DEPARTMENT OF TRANSPORTATION

Federal Aviation Administration

14 CFR Part 71

[Docket No. FAA-2022-0248; Airspace Docket No. 22-AGL-4]

RIN 2120-AA66

Proposed Amendment of VOR Federal Airways V-24, V-78, V-181, and V-398; and Establishment of Area Navigation (RNAV) Route T-462; in the Vicinity of Watertown, SD

AGENCY: Federal Aviation Administration (FAA), DOT.

ACTION: Notice of proposed rulemaking (NPRM).

SUMMARY: The FAA proposes to amend four VHF Omnidirectional Range (VOR) Federal airways and establish a new RNAV T-route in the vicinity of Watertown, South Dakota. This action is necessary due to the planned decommissioning of the VOR portion of the Watertown, SD, VOR/Tactical Air Navigation (VORTAC), which provides navigational guidance to portions of the affected VOR Federal airways. The Watertown VOR is being decommissioned as part of the FAA's VOR Minimum Operational Network (VOR MON) program.

DATES: Comments must be received on or before May 9, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-0248; Airspace Docket No. 22-AGL-4 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0248; Airspace Docket No. 22-AGL-4) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0248; Airspace Docket No. 22-AGL-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

Background

The FAA is planning decommissioning activities for the VOR portion of the Watertown, SD, VORTAC in December 2022. The Watertown VOR was one of the candidate VORs identified for discontinuance by the FAA's VOR MON program and listed in the final policy statement notice, “Provision of Navigation Services for the NextGen Transition to Performance-Based Navigation (PBN) (Plan for Establishing a VOR MON),” published in the Federal Register of July 26, 2016 (81 FR 48694), Docket No. FAA-2011-1082. Although the VOR portion of the Watertown VORTAC is planned for decommissioning, the co-located DME portion of the navigational aid is being retained in support of current and future RNAV procedures.

The VOR Federal airways affected by the Watertown VOR are V-24, V-78, V-181, and V-398. With the planned decommissioning of the Watertown VOR, the remaining ground-based navigational aid coverage in the area is insufficient to enable the continuity of these affected airways. As such, the proposed modifications would result in the removal of airway segments.

To overcome the impacts from the loss of portions of the airways, instrument flight rules (IFR) traffic could use adjacent airways, including V-2, V-148, V-170, V-175, and V-344, or receive air traffic control radar vectors to fly through or around the affected areas. Aircraft equipped with RNAV capabilities could also file point to point through the affected area using the fixes that will remain in place, use alternate RNAV routes, including T-322, T-405, and T-407, or use the new RNAV route, T-462, proposed in this action. Visual flight rules (VFR) pilots who elect to navigate via the affected ATS routes could also take advantage of the adjacent ATS routes or ATC services listed previously.

Further, the FAA proposes to establish RNAV T-route, T-462, to mitigate the proposed removal of the airway segments for V-24 between the Aberdeen, SD, VOR/DME and the Watertown, SD, VORTAC and for V-78 between the Watertown, SD, VORTAC and the Darwin, MN, VORTAC. The new route would provide navigational options in areas of limited or no radar coverage to pilots whose aircraft are RNAV equipped, as well as, support the FAA's efforts to transition the National Airspace System from ground-based to satellite-based navigation.

The Proposal

The FAA is proposing an amendment to 14 CFR part 71 to amend four VOR Federal airways and establish one RNAV T-route. The proposed Air Traffic Service (ATS) route actions are described below.

V-24: V-24 currently extends between the Aberdeen, SD, VOR/DME and the Rochester, MN, VOR/DME; between the Janesville, WI, VOR/DME and the Northbrook, IL, VOR/DME; and between the Peotone, IL, VORTAC and the Brickyard, IN, VORTAC. The FAA proposes to remove the airway segment between the Aberdeen, SD, VOR/DME and the Redwood Falls, MN, VOR/DME. This would result in the first segment of the airway extending between the Redwood Falls, MN, VOR/DME and the Rochester, MN, VOR/DME. The second and third segments of the airway would remain unchanged.

V-78: V-78 currently extends between the Watertown, SD, VORTAC and the Escanaba, MI, VOR/DME; and between the Pellston, MI, VORTAC and the Saginaw, MI, VOR/DME. The FAA proposes to remove the airway segment between the Watertown, SD, VORTAC and the Darwin, MN, VORTAC. This would result in the first segment of the airway extending between the Darwin, MN, VORTAC and the Escanaba, MI, VOR/DME. The second segment of the airway would remain unchanged.

V-181: V-181 currently extends between the Kirksville, MO, VORTAC and the Grand Forks, ND, VOR/DME. The FAA proposes to remove the airway segment between the Sioux Falls, SD, VORTAC and the Fargo, ND, VOR/DME. This would result in the airway extending between the Kirksville, MO, VORTAC and the Sioux Falls, SD, VORTAC; and between the Fargo, ND, VOR/DME and the Grand Forks, ND, VOR/DME.

V-398: V-398 currently extends between the Aberdeen, SD, VOR/DME and the Rochester, MN, VOR/DME. The FAA proposes to remove the airway segment between Aberdeen, SD, VOR/DME and the Redwood Falls, MN, VOR/DME. This would result in the airway extending between the Redwood Falls, MN, VOR/DME and the Rochester, MN, VOR/DME.

T-462: T-462 would be a new RNAV route that extends between the Bismarck, ND, VOR/DME and the GENEO, MN, waypoint (WP) located near the Darwin, MN, VOR.

All navigational aid radials listed in the VOR Federal airway descriptions below are unchanged and stated in True degrees.

VOR Federal airways are published in paragraph 6010(a), and RNAV T-routes are published in paragraph 6011 of FAA Order JO 7400.11F, dated August 10, 2021, and effective September 15, 2021, which are incorporated by reference in 14 CFR 71.1. The VOR Federal airways listed in this document would be published subsequently in FAA JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-24 [Amended]

From Redwood Falls, MN; to Rochester, MN. From Janesville, WI; INT Janesville 112° and Northbrook, IL, 291° radials; to Northbrook. From Peotone, IL; INT Peotone 152° and Brickyard, IN, 312° radials; to Brickyard.

* * * * *

V-78 [Amended]

From Darwin, MN; Gopher, MN; INT Gopher 091° and Eau Claire, WI, 290° radials; Eau Claire; Rhinelander, WI; Iron Mountain, MI; to Escanaba, MI. From Pellston, MI; Alpena, MI; INT Alpena 232° and Saginaw, MI, 353° radials; to Saginaw.

* * * * *

V-181 [Amended]

From Kirksville, MO; Lamoni, IA; Omaha, IA; Norfolk, NE; Yankton, SD; to Sioux Falls, SD. From Fargo, ND; to Grand Forks, ND.

* * * * *

V-398 [Amended]

From Redwood Falls, MN; to Rochester, MN.

* * * * *

Paragraph 6011 United States Area Navigation Routes.

* * * * *

T-462 Bismarck, ND (BIS) to GENEO, MN [New]
Bismarck, ND (BIS) | VOR/DME | (Lat. 46°45′42.34″ N, long. 100°39′55.47″ W)
Aberdeen, SD (ABR) | VOR/DME | (Lat. 45°25′02.48″ N, long. 098°22′07.39″ W)
FFORT, SD | WP | (Lat. 44°58′47.45″ N, long. 097°08′30.36″ W)
GENEO, MN | WP | (Lat. 45°05′15.37″ N, long. 094°27′14.30″ W)

Issued in Washington, DC, on March 21, 2022.
Scott M. Rosenbloom,
Manager, Airspace Rules and Regulations.

[FR Doc. 2022-06311 Filed 3-24-22; 8:45 am]

BILLING CODE 4910-13-P